DEPARTMENT OF THE INTERIOR

Fish and Wildlife Service

[FWS-HQ-DMA-2013-N288; FXIA16710900000-145-FF09A30000]

Proposed Information Collection; Federal Fish and Wildlife Permit Applications and Reports—Management Authority

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on February 28, 2014. We may not conduct or sponsor and a person is not required to respond to a collection of information unless it displays a currently valid OMB control number.

DATES: To ensure that we are able to consider your comments on this IC, we must receive them by February 18, 2014.

ADDRESSES: Send your comments on the IC to the Service Information Collection Clearance Officer, U.S. Fish and Wildlife Service, MS 2042-PDM, 4401 North Fairfax Drive, Arlington, VA 22203 (mail); or hope_grey@fws.gov (email). Please include “1018-0093” in the subject line of your comments.

FOR FURTHER INFORMATION CONTACT: To request additional information about this IC, contact Hope Grey at hope_grey@fws.gov (email) or 703-358-2482 (telephone).

SUPPLEMENTARY INFORMATION:

I. Abstract

This information collection covers permit applications and reports that our Division of Management Authority uses to determine the eligibility of applicants for permits requested in accordance with the criteria in various Federal wildlife conservation laws and international treaties. Service regulations implementing these statutes and treaties are in chapter I, subchapter B of title 50, Code of Federal Regulations (CFR). These regulations stipulate general and specific requirements that when met allow us to issue permits to authorize activities that are otherwise prohibited.

We are not proposing any major changes to the applications and reports currently approved under OMB Control Number 1018-0093. You may view the currently approved forms at http://www.fws.gov/forms/display.cfm?number1=200. We are proposing a new application: FWS Form 3-200-88 (Musical Instrument (CITES)). The Musical Instrument application will be for multiple border crossings for noncommercial use (including, but not limited to, personal use, performance, display, or competition).

II. Data

OMB Control Number: 1018-0093.

Title: Federal Fish and Wildlife Permit Applications and Reports—Management Authority, 50 CFR 13, 15, 16, 17, 18, 21, and 23.

Service Form Numbers: 3-200-19 through 3-200-37, 3-200-39 through 3-200-44, 3-200-46 through 3-200-53, 3-200-58, 3-200-61, 3-200-64 through 3-200-66, 3-200-69 to 3-200-70, 3-200-73 through 3-200-76, 3-200-80, and 3-200-85 through 3-200-88.

Type of Request: Revision of a currently approved collection.

Description of Respondents: Individuals; biomedical companies; circuses; zoological parks; botanical gardens; nurseries; museums; universities; antique dealers; exotic pet industry; hunters; taxidermists; commercial importers/exporters of wildlife and plants; freight forwarders/brokers; and State, tribal, local, and Federal governments

Respondent's Obligation: Required to obtain or retain a benefit.

Frequency of Collection: On occasion.

Estimated Number of Annual Respondents: 13,095.

Form/activity | Number of responses | Completion time per response | Total annual burden hours *
3-200-19—application | 1,083 | 20 minutes | 361
3-200-20—application | 21 | 1 hour | 21
3-200-21—application | 201 | 45 minutes | 151
Report—Argali Sheep | 135 | 15 minutes | 34
3-200-22—application | 95 | 20 minutes | 32
3-200-23—application | 241 | 45 minutes | 181
3-200-24—application | 485 | 45 minutes | 364
3-200-25—application | 64 | 1 hour | 64
3-200-26—application | 618 | 20 minutes | 206
3-200-27—application | 113 | 45 minutes | 85
3-200-28—application | 95 | 30 minutes | 48
3-200-29—application | 270 | 2.5 hours | 676
3-200-30—application | 81 | 1 hour | 81
3-200-30A—report | 69 | 30 minutes | 35
3-200-31—application | 3 | 2 hours | 6
3-200-32—application | 614 | 1 hour | 614
3-200-33—application | 303 | 2 hours | 606
3-200-34—application | 107 | 20 minutes | 36
3-200-35—application | 3 | 1 hour | 3
3-200-36—application | 3 | 1 hour | 3
3-200-37—application | 165 | 2 hour | 330
3-200-39—application | 7 | 1 hour | 7
3-200-39A—report | 7 | 30 minutes | 4
3-200-40—application | 2 | 1 hour | 2
3-200-40A—report | 2 | 30 minutes | 2
3-200-41—application | 87 | 2 hours | 174
3-200-41A—report | 83 | 30 minutes | 42
3-200-42—application | 21 | 1 hour | 21
3-200-43—application | 19 | 2.33 hours | 44
3-200-44—application | 2 | 20 minutes | 1
3-200-44A—report | 1 | 1 hour | 1
3-200-46—application | 369 | 0.5 | 185
3-200-47—application | 16 | 2 hours | 32
3-200-48—application | 4 | 1 hour | 4
3-200-49—application | 4 | 3 hours | 12
3-200-50—application | 2 | 10 hours | 20
3-200-51—application | 2 | 8 hours | 16
3-200-52—application | 198 | 15 minutes | 50
3-200-53—application | 4 | 2 hours | 8
3-200-58—application | 50 | 1 hour | 50
3-200-61—application | 25 | 43.5 hours | 1,088
3-200-64—application | 137 | 30 minutes | 69
3-200-65—application | 2 | 40 hours | 80
3-200-66—application | 50 | 15 minutes | 12
3-200-69—application | 3 | 30 minutes | 2
3-200-70—application | 16 | 30 minutes | 8
3-200-73—application | 5,566 | 30 minutes | 2,783
3-200-74—application | 1,000 | 6 minutes | 101
3-200-75—application | 25 | 30 minutes | 13
3-200-76—application | 120 | 3 hours | 360
3-200-80—application | 15 | 3 hours | 45
3-200-85—application | 90 | 1 hour | 90
3-200-86—application | 15 | 1.5 hours | 23
3-200-87—application | 25 | 1 hour | 25
3-200-88—application | 40 | 45 minutes | 30
Request for Approval of American Ginseng Program | 2 | 12 hours | 24
Report—Furbearers CITES Export Program | 52 | 1 hour | 52
Report—American Alligator CITES Export Program | 10 | 1 hour | 10
Application—Plant Rescue Center Program | 3 | 1 hour | 3
Report—Receipt and Condition of Specimens | 250 | 30 minutes | 125
Totals | 13,095 |  | 9,555
* Rounded.

Estimated Annual Nonhour Burden Cost: $982,781 associated with application fees.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: December 12, 2013.
Tina A. Campbell,
Chief, Division of Policy and Directives Management, U.S. Fish and Wildlife Service.

[FR Doc. 2013-29921 Filed 12-16-13; 8:45 am]

BILLING CODE 4310-55-P